Title 3—

The President

Proclamation 8256 of May 15, 2008

National Safe Boating Week, 2008

By the President of the United States of America

A Proclamation

Our Nation's beautiful waterways provide opportunities for recreational activities for millions of Americans. During National Safe Boating Week, we raise awareness of the importance of practicing and promoting safe boating.

Recreational boating is one of America's most popular pastimes, and it is important for every boater to take proper safety precautions. The United States Coast Guard encourages citizens to take preventive measures such as wearing a life jacket, never boating under the influence of drugs or alcohol, and taking a boating safety course. Too often, accidents occur on boats where the operator had not received boating safety instruction. Receiving a vessel safety check once a year will also help ensure a safe boating experience. To learn important information about boating, visit uscgboating.org. During National Safe Boating Week and throughout the year, I urge all Americans to put safety first when enjoying our country's magnificent waters.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, do hereby proclaim May 17 through May 23, 2008, as National Safe Boating Week. I encourage the Governors of the 50 States and the Commonwealth of Puerto Rico, and officials of other areas subject to the jurisdiction of the United States, to join in observing this week. I also urge all Americans to learn more about safe boating practices and always act responsibly while on the water.

IN WITNESS WHEREOF, I have hereunto set my hand this fifteenth day of May, in the year of our Lord two thousand eight, and of the Independence of the United States of America the two hundred and thirty-second.

[FR Doc. 08-1283

5-19-08; 8:58 am]

BILLING CODE 3195-01-P